DEPARTMENT OF TRANSPORTATION

Federal Motor Carrier Safety Administration

[Docket No. FMCSA-2000-7827]

Notice of Request for Comments on Renewing the Approval for Three Information Collections: Inspection, Repair and Maintenance; Driver Qualification Files; and Controlled Substances and Alcohol Use and Testing

AGENCY: Federal Motor Carrier Safety Administration (FMCSA), DOT.

ACTION: Notice and request for comments.

SUMMARY: This action informs the public that FMCSA intends to request the Office of Management and Budget (OMB) to renew approval for three information collections. The first information collection, “Inspection, Repair and Maintenance,” relates to a motor carrier's responsibility for ensuring that employees safely maintain and operate its commercial motor vehicles. The second information collection, “Driver Qualification Files,” relates to requirements that a motor carrier employ only safe drivers to operate its commercial motor vehicles. The third information collection, “Controlled Substances and Alcohol Use and Testing,” relates to requirements that a motor carrier test certain commercial motor vehicle operators for controlled substance use and alcohol abuse. This notice is required by the Paperwork Reduction Act.

DATES: You must submit comments by November 6, 2000.

ADDRESSES: Mail or hand deliver comments to the U.S. Department of Transportation, Dockets Management Facility, Room PL-401, 400 Seventh Street, SW., Washington, DC 20590, or submit electronically at http://dmses.dot.gov/submit. Be sure to include the docket number appearing in the heading of this document on your comment. All comments received will be available for examination and copying at the above address from 9 a.m. to 5 p.m., e.t., Monday through Friday, except Federal holidays. If you would like to be notified when your comment is received, you must include a self-addressed, stamped postcard or you may print the acknowledgment page that appears after submitting comments electronically.

FOR FURTHER INFORMATION CONTACT: Valerie Height, (202) 366-0901, Office of Policy, Plans and Regulation, Federal Motor Carrier Safety Administration, Department of Transportation, 400 Seventh Street, SW., Washington, DC, 20590. Office hours are from 7:30 a.m. to 4 p.m., e.t., Monday through Friday, except Federal holidays.

SUPPLEMENTARY INFORMATION: 1. Title: Inspection, Repair and Maintenance.

OMB Number: 2126-0003.

Background: Motor carriers must maintain, or require maintenance of, records documenting the inspection, repair and maintenance activities performed on their owned and leased motor vehicles. There are no prescribed forms. The records are used by the FMCSA and its representatives to verify motor carriers' compliance with the inspection, repair, and maintenance standards in part 396 of the Federal Motor Carrier Safety Regulations.

Respondents: Motor carriers, commercial motor vehicle (CMV) drivers.

Estimated Total Annual Burden: 31,484,826 hours.

2. Title: Driver Qualification Files.

OMB Number: 2126-0004.

Background: Motor carriers must maintain a driver qualification file for each CMV driver they employ. The file contains the minimum amount of information necessary to document that a driver is qualified to drive a CMV in interstate commerce.

Motor carriers and the FMCSA primarily use the driver's qualification file to ensure that a person: (1) is physically qualified to safely operate a CMV; (2) has the experience and/or training to safely operate the type(s) of CMV he or she will be assigned to drive; (3) has the appropriate driver's license; and (4) has not been disqualified to operate a CMV.

Respondents: Motor carriers and CMV drivers.

Estimated Total Annual Burden: 941,856 hours.

3. Title: Controlled Substances and Alcohol Use and Testing.

OMB Number: 2126-0012.

Background: Motor carriers must conduct alcohol and controlled substances testing on their CMV drivers who drive larger CMVs (over 26,000 lbs.) requiring a commercial driver's license. The FMCSA uses the information collected to determine whether the motor carriers are using drivers who are alcohol-free and drug-free while driving trucks, buses, and other commercial motor vehicles. The reporting survey of the management information system (MIS) allows the agency to adjust the random testing rates for the industry when the industry shows performance improvements. The agency bases the adjustment upon the results of a small, statistically significant sample of motor carriers.

The FMCSA has significantly reduced the estimated total annual burden for this information collection. The agency calculated burdens for OMB No. 2126-0012 using a uniform method jointly developed by the Office of the Secretary, Department of Transportation (DOT) and each of the DOT modal administrations. Many of the paperwork burdens included in the old estimate for OMB No. 2126-0012 were eliminated because they are more appropriately accounted for under information collections relating to the DOT regulations for alcohol and controlled substances testing and Department of Health and Human Services Regulations for drug testing.

Respondents: 650,000 motor carriers.

Estimated Total Annual Burden: 573,490 hours.

Public Comments Invited

We invite you to comment on any aspect of these information collections, including, but not limited to (1) whether the information collection is necessary and useful for the FMCSA to meet its goal of reducing truck crashes; (2) the accuracy of the estimated burdens; (3) ways to improve the quality, usefulness, and clarity of the collected information; and (4) ways to minimize the collection burden without reducing the quality of the collected information. We will summarize and/or include all comments submitted in response to this notice in our request for OMB's clearance of these information collections.

Electronic Access and Filing

You may submit or retrieve comments online through the Docket Management System (DMS) at http://dmses.dot.gov/submit. Acceptable formats include: MS Word (versions 95 to 97), MS Word for Mac (versions 6 to 8), Rich Text File (RTF), American Standard Code Information Interchange (ASCII)(TXT), Portable Document Format (PDF), and WordPerfect (versions 7 to 8). The DMS is available 24 hours each day, 365 days each year. Electronic submission and retrieval help and guidelines are available under the help section of the web site.

An electronic copy of this document may be downloaded by using a computer, modem and suitable communications software from the Government Printing Office's Electronic Bulletin Board Service at (202) 512-1661. Internet users may reach the Office of the Federal Register's home page at http://www.nara.gov/fedreg and the Government Printing Office's web page at: http://www.access.gpo.gov/nara.

Authority: 23 U.S.C. 315 and 49 CFR 1.73.

Issued on: August 29, 2000.
Clyde J. Hart, Jr.,
Acting Deputy Administrator, Federal Motor Carrier Safety Administration.

[FR Doc. 00-22625 Filed 9-1-00; 8:45 am]

BILLING CODE 4910-22-P